DEPARTMENT OF ENERGY

Federal Energy Regulatory Commission

[Project Nos. 5737-026, -027]

Santa Clara Valley Water District; Notice of Cross Valley Pipeline Extension Project and Coyote Creek Chillers Project Site-Specific Plan Accepted for Filing and New Location for Chillers and Soliciting Comments, Motions To Intervene, and Protests

Take notice that the following hydroelectric plan has been filed with the Commission and is available for public inspection:

a. Filing Type: Cross Valley Pipeline Extension Project and Coyote Creek Chillers Project Site-Specific Plan.

b. Project Nos: 5737-026 and 5737-027.

c. Date Filed: July 1, 2022 and supplemented on July 13, 2022.

d. Applicant: Santa Clara Valley Water District.

e. Name of Project: Anderson Dam Hydroelectric Project.

f. Location: The project is located on Coyote Creek in Santa Clara County, CA.

g. Filed Pursuant to: Federal Power Act, 16 U.S.C. 791a-825r.

h. Applicant Contact: Christopher Hakes, (408) 630-3796, chakes@valleywater.org.

i. FERC Contact: Mark Ivy, (202) 502-6156, mark.ivy@ferc.gov.

j. Deadline for filing comments, motions to intervene, and protests: August 1, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-5737-026, -027. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Condition 3 of the Water Quality Certification, issued on November 9, 2020, by the California Water Resources Control Board (California Water Board) for the Federal Energy Regulatory Commission Order Compliance Project for Anderson Reservoir and Dam requires Valley Water to develop a Cross Valley Pipeline Extension and Coyote Creek Chillers Project Site-Specific Plan (Plan). The Plan, approved by the California Water Board, includes construction of: (1) an extension of the existing Cross Valley Pipeline that starts at the intersection of Hale Avenue and San Bruno Avenue and terminates at Coyote Creek, downstream of Ogier Ponds; and (2) chillers that will cool imported water that will be discharged from the current Cross Valley Pipeline discharge point into the Cold-Water Management Zone in Coyote Creek below Anderson Dam. Construction of the Cross Valley Pipeline extension includes dewatering several segments of pipeline, adding a new pipeline branch, and construction of an outfall structure on the bank of Coyote Creek. Since Commission staff analyzed and approved the chillers in the October 1, 2020 and February 2, 2021 Orders Approving, In Part, Reservoir Drawdown and Operations Plan, Valley Water has changed its proposed location for constructing and operating the chillers. Valley Water proposes to install and operate the chillers at the existing Coyote Pumping Plant (owned by the U.S. Bureau of Reclamation) located at 18300 Peet Road, Morgan Hill, CA.

l. Locations of the Plan: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must: (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: July 15, 2022.
Debbie-Anne A. Reese,
Deputy Secretary.

[FR Doc. 2022-15600 Filed 7-20-22; 8:45 am]

BILLING CODE 6717-01-P